DEPARTMENT OF TRANSPORTATION

National Highway Traffic Safety Administration

[Docket No. DOT-NHTSA-2011-0019, Notice 1]

Notice of Receipt of Petition for Decision That Nonconforming 2005 Mercedes-Benz 350 CLS Passenger Cars Are Eligible for Importation

AGENCY: National Highway Traffic Safety Administration, DOT

ACTION: Notice of receipt of petition for decision that nonconforming 2005 Mercedes-Benz 350 CLS passenger cars are eligible for importation.

SUMMARY: This document announces receipt by the National Highway Traffic Safety Administration (NHTSA) of a petition for a decision that 2005 Mercedes-Benz 350 CLS passenger cars that were not originally manufactured to comply with all applicable Federal Motor Vehicle Safety Standards (FMVSS) are eligible for importation into the United States because they have safety features that comply with, or are capable of being altered to comply with, all such standards.

DATES: The closing date for comments on the petition is June 16, 2011.

ADDRESSES: Comments should refer to the docket and notice numbers above and be submitted by any of the following methods:

• Federal eRulemaking Portal: Go to http://www.regulations.gov. Follow the online instructions for submitting comments.

• Mail: Docket Management Facility: U.S. Department of Transportation, 1200 New Jersey Avenue, SE., West Building Ground Floor, Room W12-140, Washington, DC 20590-0001

• Hand Delivery or Courier: West Building Ground Floor, Room W12-140, 1200 New Jersey Avenue, SE., between 9 a.m. and 5 p.m. ET, Monday through Friday, except Federal holidays.

• Fax: 202-493-2251

Instructions: Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78).

How to Read Comments submitted to the Docket: You may read the comments received by Docket Management at the address and times given above. You may also view the documents from the Internet at http://www.regulations.gov.

Follow the online instructions for accessing the dockets. The docket ID number and title of this notice are shown at the heading of this document notice. Please note that even after the comment closing date, we will continue to file relevant information in the Docket as it becomes available. Further, some people may submit late comments. Accordingly, we recommend that you periodically search the Docket for new material.

FOR FURTHER INFORMATION CONTACT: Coleman Sachs, Office of Vehicle Safety Compliance, NHTSA (202-366-3151).

SUPPLEMENTARY INFORMATION:

Background

Under 49 U.S.C. 30141(a)(1)(B), a motor vehicle that was not originally manufactured to conform to all applicable FMVSS, and has no substantially similar U.S.-certified counterpart, shall be refused admission into the United States unless NHTSA has decided that the motor vehicle has safety features that comply with, or are capable of being altered to comply with, all applicable FMVSS based on destructive test data or such other evidence as NHTSA decides to be adequate.

Petitions for eligibility decisions may be submitted by either manufacturers or importers who have registered with NHTSA pursuant to 49 CFR part 592. As specified in 49 CFR 593.7, NHTSA publishes notices in the Federal Register of each petition that it receives, and affords interested persons an opportunity to comment on the petition. At the close of the comment period, NHTSA decides, on the basis of the petition and any comments that it has received, whether the vehicle is eligible for importation. The agency then publishes this decision in the Federal Register.

G&K Automotive Conversion, Inc. of Santa Ana, California (G&K) (Registered Importer 90-007) has petitioned NHTSA to decide whether nonconforming 2005 Mercedes-Benz 350 CLS passenger cars are eligible for importation into the United States. G&K believes that these vehicles are capable of being modified to meet all applicable FMVSS.

In its petition, G&K described the nonconforming 2005 Mercedes-Benz 350 CLS as the same model as the U.S.-certified 2006 Mercedes-Benz CLS class. Because the 350 CLS model was introduced in Europe as a new model in 2005, prior to the introduction of the U.S-certified introduction of the CLS class in 2006, the petitioner acknowledged that it could not base its petition on the substantial similarity of the 2005 Mercedes-Benz 350 CLS to the U.S.-certified 2006 Mercedes-Benz CLS class due to the model year discrepancy and the petitioning requirements of 49 U.S.C. 30141(a)(1)(A), as set forth in 49 CFR part 593. Instead, the petitioner chose to establish import eligibility on the basis that the vehicles have safety features that comply with, or are capable of being modified to comply with, the FMVSS based on destructive test data or such other evidence that NHTSA decides to be adequate as set forth in 49 U.S.C Part 30141(a)(1)(B). The petitioner contends that the 2005 Mercedes-Benz 350 CLS utilizes the same components as the U.S.-certified 2006 Mercedes-Benz 350 CLS in virtually all of the systems subject to the applicable FMVSS.

G&K submitted information with its petition intended to demonstrate that non-U.S. certified 2005 Mercedes-Benz 350 CLS passenger cars conform to many FMVSS and are capable of being altered to comply with all other standards to which they were not originally manufactured to conform.

Specifically, the petitioner claims that non-U.S. certified 2005 Mercedes-Benz 350 CLS passenger cars, as originally manufactured, conform to: Standard Nos. 102 Transmission Shift Lever Sequence, Starter Interlock, and Transmission Braking Effect, 103 Windshield Defrosting and Defogging Systems, 104 Windshield Wiping and Washing Systems, 106 Brake Hoses, 109 New Pneumatic Tires, 113 Hood Latch System, 116 Motor Vehicle Brake Fluids, 118 Power-Operated Window, Partition, and Roof Panel Systems, 124 Accelerator Control Systems, 135 Light Vehicle Brake Standard, 201 Occupant Protection in Interior Impact, 202 Head Restraints, 204 Steering Control Rearward Displacement, 205 Glazing Materials, 207 Seating Systems, 209 Seat Belt Assemblies 210, Seat Belt Assembly Anchorages, 212 Windshield Mounting, 214 Side Impact Protection, 216 Roof Crush Resistance, 219 Windshield Zone Intrusion, and 302 Flammability of Interior Materials.

The petitioner also contends that the vehicles are capable of being altered to meet the following standards, in the manner indicated:

Standard No. 101 Controls and Displays: Installation of U.S.-model instrument cluster and U.S.-version software.

Standard No. 108 Lamps, Reflective Devices and Associated Equipment: Installation of U.S.-model: (a) Headlamps; and (b) front side marker lamps with reflex reflectors.

Standard No. 110 Tire Selection and Rims and Motor Home/Recreational Vehicle Trailer Load Carrying Capacity Information for Motor Vehicles with a GVWR of 4,536 Kilograms (10,000 pounds) or Less: Installation of a tire and rim information placard.

Standard No. 111 Rearview Mirrors: Installation of a U.S.-model passenger side rearview mirror, or inscription of the required warning statement on the face of that mirror.

Standard No. 114 Theft Protection: Installation of U.S.-version software, or a supplemental key warning system to meet the requirements of this standard.

Standard No. 206 Door Locks and Door Retention Components: Inspection of all vehicles and installation of a conforming door lock and door retention components on vehicles not already so equipped.

Standard No. 208 Occupant Crash Protection: Installation or activation of U.S.-version software to ensure that the seat belt warning system meets the requirements of this standard.

Standard No. 225 Child Restraint Anchorage Systems: Installation of U.S.-model child restraint anchorage system components that meet the requirements of FMVSS No. 225.

Standard No. 301 Fuel System Integrity: Inspection of all vehicles and installation of U.S.-conforming components on vehicles not already so equipped to ensure that the fuel system meets the requirements of this standard.

Standard No. 401 Interior Trunk Release: Installation of U.S.-model interior trunk release components to ensure that the vehicle meets the requirements of this standard.

All comments received before the close of business on the closing date indicated above will be considered, and will be available for examination in the docket at the above addresses both before and after that date. To the extent possible, comments filed after the closing date will also be considered. Notice of final action on the petition will be published in the Federal Register pursuant to the authority indicated below.

Authority: 49 U.S.C. 30141(a)(1)(A) and (b)(1); 49 CFR 593.8; delegations of authority at 49 CFR 1.50 and 501.8.

Issued on: May 6, 2011.
Claude H. Harris,
Acting Associate Administrator for Enforcement.

[FR Doc. 2011-11993 Filed 5-16-11; 8:45 am]

BILLING CODE 4910-59-P